DEPARTMENT OF TRANSPORTATION

Federal Aviation Administration

14 CFR Part 39

[Docket No. FAA-2008-0264; Directorate Identifier 2008-NE-07-AD; Amendment 39-15679; AD 2008-19-12]

RIN 2120-AA64

Airworthiness Directives; Honeywell International Inc. TFE731-4, -4R, -5, -5AR, -5BR, and -5R Series Turbofan Engines

AGENCY: Federal Aviation Administration (FAA), Department of Transportation (DOT).

ACTION: Final rule.

SUMMARY: The FAA is adopting a new airworthiness directive (AD) for Honeywell International Inc. TFE731-4, -4R, -5, -5AR, -5BR, and -5R series turbofan engines, with interstage turbine transition (ITT) duct, part number (P/N) 3075292-1; 3075292-3; 3074766-1; 3077063-1; 3075655-1; 3075655-2; 3075699-1; or 3075699-3, installed. This AD requires replacing the affected ITT duct with a serviceable and redesigned ITT duct. This AD results from reports of 49 low-pressure turbine (LPT) blade separation events. Six of those events resulted in circumferential failure of the LPT2 or LPT3 nozzle assembly, leading to deformation of the ITT duct and uncontainment of the turbine blades and fragments of the LPT nozzle assembly. We are issuing this AD to prevent uncontainment of turbine blades and fragments of the LPT nozzle assembly, which could result in damage to the airplane.

DATES: This AD becomes effective October 27, 2008.

ADDRESSES: You can get the service information identified in this AD from Honeywell Engines and Systems Technical Publications and Distribution, M/S 2101-201, P.O. Box 52170, Phoenix, AZ 85072-2170, telephone: (602) 365-2493 (General Aviation), (602) 365-5535 (Commercial Aviation), fax: (602) 365-5577 (General Aviation and Commercial Aviation).

The Docket Operations office is located at Docket Management Facility, U.S. Department of Transportation, 1200 New Jersey Avenue SE., West Building Ground Floor, Room W12-140, Washington, DC 20590-0001.

FOR FURTHER INFORMATION CONTACT: Joseph Costa, Aerospace Engineer, Los Angeles Aircraft Certification Office, FAA, Transport Airplane Directorate, 3960 Paramount Blvd., Lakewood, CA 90712-4137; e-mail: joseph.costa@faa.gov; telephone: (562) 627-5246; fax: (562) 627-5210.

SUPPLEMENTARY INFORMATION: The FAA proposed to amend 14 CFR part 39 with a proposed AD. The proposed AD applies to Honeywell International Inc. TFE731-4, -4R, -5, -5AR, -5BR, and -5R series turbofan engines, with ITT duct, P/N 3075292-1; 3075292-3; 3074766-1; 3077063-1; 3075655-1; 3075655-2; 3075699-1; or 3075699-3, installed. We published the proposed AD in the Federal Register on April 4, 2008 (73 FR 18461). That action proposed to require replacing the affected ITT duct with a serviceable and redesigned ITT duct.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is provided in the ADDRESSES section. Comments will be available in the AD docket shortly after receipt.

Comments

We provided the public the opportunity to participate in the development of this AD. We received no comments on the proposal or on the determination of the cost to the public. However, we did find that we misidentified two part numbers in the Summary and Applicability Sections of the NPRM. We identified in the NPRM P/Ns 30756599-1; or 30756599-3 that should have been identified as P/Ns 3075699-1; or 3075699-3. We changed the AD to use the correct P/Ns. We also changed the AD by adding a prohibition of affected ITT ducts, for clarity.

Conclusion

We have carefully reviewed the available data and determined that air safety and the public interest require adopting the AD with the change described previously.

Costs of Compliance

We estimate that this AD will affect 1,500 engines installed on airplanes of U.S. registry. We also estimate that it will take about 4 work-hours per engine to perform the actions, and that the average labor rate is $80 per work-hour. Reworked ITT ducts to the redesign will cost about $25,000 per engine. New ITT ducts that are redesigned will cost about $127,000. We estimate that 30 engines will require new ITT ducts. Based on these figures, we estimate the total cost of the AD to U.S. operators to be $41,040,000.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a summary of the costs to comply with this AD and placed it in the AD Docket. You may get a copy of this summary at the address listed under ADDRESSES.

List of Subjects in 14 CFR Part 39

Air transportation, Aircraft, Aviation safety, Safety.

Adoption of the Amendment

Accordingly, under the authority delegated to me by the Administrator, the Federal Aviation Administration amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2008-19-12 Honeywell International Inc. (formerly AlliedSignal Inc., formerly Garret Turbine Engine Company): Amendment 39-15679. Docket No. FAA-2008-0264; Directorate Identifier 2008-NE-07-AD.

Effective Date

(a) This airworthiness directive (AD) becomes effective October 27, 2008.

Affected ADs

(b) None.

Applicability

(c) This AD applies to Honeywell International Inc. TFE731-4, -4R, -5, -5AR, -5BR, and -5R series turbofan engines, with interstage turbine transition (ITT) duct, part number (P/N) 3075292-1; 3075292-3; 3074766-1; 3077063-1; 3075655-1; 3075655-2; 3075699-1; or 3075699-3, installed. These engines are installed on, but not limited to, Avions Marcel Dassault Mystere-Falcon 50 series, Dassault-Aviation 20, 50, 900, MF900 series, Cessna Model 650, Cessna Citation VII, and Raytheon Corporate Jets (formerly British Aerospace) Hawker 800 and 850XP series airplanes.

Unsafe Condition

(d) This AD results from reports of 49 low-pressure turbine (LPT) blade separation events. Six of those events resulted in circumferential failure of the LPT2 or LPT3 nozzle assembly, leading to deformation of the ITT duct and uncontainment of the turbine blades and fragments of the LPT nozzle assembly. We are issuing this AD to prevent uncontainment of turbine blades and fragments of the LPT nozzle assembly, which could result in damage to the airplane.

Compliance

(e) You are responsible for having the actions required by this AD performed at the next Major Periodic Inspection of the engine or at next access of the ITT duct, whichever occurs first, but not to exceed 2,600 hours time-in-service after the effective date of this AD, unless the actions have already been done.

Replacement of the ITT Duct

(f) Replace the affected ITT ducts listed by part number in paragraph (c) of this AD, with a serviceable and redesigned ITT duct.

Definitions

(g) For the purpose of this AD, a serviceable and redesigned ITT duct is one not having a part number listed in this AD.

(h) For the purpose of this AD, next access of the ITT duct is when the ITT duct is removed from the engine.

Prohibition of Affected ITT Ducts

(i) After the effective date of this AD, do not install any ITT duct listed by P/N in paragraph (c) of this AD, onto any engine.

Alternative Methods of Compliance

(j) The Manager, Los Angeles Aircraft Certification Office, has the authority to approve alternative methods of compliance for this AD if requested using the procedures found in 14 CFR 39.19.

Related Information

(k) Honeywell International Inc. Service Bulletin (SB) No. TFE731-72-3727, dated September 12, 2007, and SB No. TFE731-72-3728, dated September 12, 2007, pertain to the subject of this AD.

(l) Contact Joseph Costa, Aerospace Engineer, Los Angeles Aircraft Certification Office, FAA, Transport Airplane Directorate, 3960 Paramount Blvd., Lakewood, CA 90712-4137; e-mail: joseph.costa@faa.gov; telephone: (562) 627-5246; fax: (562) 627-5210, for more information about this AD.

Issued in Burlington, Massachusetts, on September 12, 2008.
Peter A. White,
Assistant Manager, Engine and Propeller Directorate, Aircraft Certification Service.

[FR Doc. E8-21835 Filed 9-19-08; 8:45 am]

BILLING CODE 4910-13-P